SECURITIES AND EXCHANGE COMMISSION

Sunshine Act Meeting

Notice is hereby given, pursuant to the provisions of the Government in the Sunshine Act, Public Law 94-409, that the Securities and Exchange Commission will hold a technology and trading roundtable discussion on Tuesday, October 2, 2012, in the Multipurpose Room, L-006. The meeting will begin at 10 a.m. and will be open to the public. Seating will be on a first-come, first served basis. Doors will be open at 9:30 a.m. Visitors will be subject to security checks. The roundtable will be Webcast on the Commission's Web site at www.sec.gov and will be archived for later viewing.

On August 24, 2012, the Commission published notice of the roundtable discussion (Release No. 34-67725), indicating that the event is open to the public and inviting the public to submit written comments to the Commission staff. This Sunshine Act notice is being issued because a majority of the Commission may attend the roundtable discussion.

The agenda for the roundtable includes opening remarks followed by two panel discussions. The first panel will focus on the prevention of errors through robust system design, deployment, and operation. The second panel will focus on the responses to errors and malfunctions and managing crises in real-time.

For further information, please contact the Office of the Secretary at (202) 551-5400.

Dated: September 25, 2012.
Kevin M. O'Neill,
Deputy Secretary.

[FR Doc. 2012-24064 Filed 9-26-12; 4:15 pm]

BILLING CODE 8011-01-P